DEPARTMENT OF COMMERCE

International Trade Administration

Agency Information Collection Activities; Submission to the Office of Management and Budget (OMB) for Review and Approval; Comment Request; SelectUSA Investment Promotion Intake Questions

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 28, 2023, during a 60-day comment period. This notice allows for an additional 30 days for public comments.

Agency: International Trade Administration, Commerce.

Title: Investment Promotion Client Intake Questions.

OMB Control Number: 0625-XXXX.

Form Number(s): None.

Type of Request: Regular submission. This is a new information collection.

Number of Respondents: 200.

Average Hours per Response: 0.5 hours.

Burden Hours: 100 hours.

Needs and Uses: SelectUSA, within the International Trade Administration, provides programs and services that focus on facilitating job-creating business investment into the United States and raising awareness of the critical role that economic development plays in the U.S. economy. These programs include information products, services, and trade events to potential foreign investors into the United States and to U.S.-based economic development organizations. To accomplish its mission effectively, SelectUSA requires detailed information from clients in order to provide resources and services that meet each specific client's needs. This information collection item allows ITA to solicit clients' interest for the use of ITA products, services, and trade events. To promote optimal use and effective response to client needs through ITA services and programs, we are requesting approval for this clearance package. Upon approval by OMB, ITA will use the approved information collection to collect client input by the use of multiple data collection methods, including Comment Cards (i.e. transactional-based surveys), web-enabled surveys sent via email, telephone interviews, automated telephone surveys, and in-person surveys via mobile devices/laptops/tablets at trade events/shows. The use of these multiple data collection methods is suggested solely to reduce the public burden in responding to requests for input. Without this information, ITA is unable to systematically determine the actual and relative levels of user needs for its programs and products/services and to provide clear, actionable insights for client use. This information will be used for strategic planning, allocation of resources, and stakeholder reporting.

Affected Public: Business or other for-profit organizations; not-for-profit institutions; State, local, or Tribal government; and Federal Government.

Frequency: As needed.

Respondent's Obligation: Voluntary.

Legal Authority: Public Law 15 U.S.C. et seq. and 15 U.S.C. 171 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2023-14093 Filed 6-30-23; 8:45 am]

BILLING CODE 3510-DR-P